DEPARTMENT OF HEALTH AND HUMAN SERVICES

National Institutes of Health

Center for Scientific Review; Amended Notice of Meeting

Notice is hereby given of a change in the meeting of the Center for Scientific Review Special Emphasis Panel, November 10, 2004, 10 a.m. to November 10, 2004, 4 p.m., Sofitel Lafayette Square Hotel, 806 15th Street, NW., Washington, DC 20005 which was published in the Federal Register on November 3, 2004, 69 FR 64078-64081.

The meeting will be held December 3, 2004. The meeting time and location remain the same. The meeting is closed to the public.

Dated: November 15, 2004.
LaVerne Y. Stringfield,
Director, Office of Federal Advisory Committee Policy.

[FR Doc. 04-25669 Filed 11-18-04; 8:45 am]

BILLING CODE 4140-01-M